FEDERAL MARITIME COMMISSION

Ocean Transportation Intermediary License; Rescission of Order of Revocation

Notice is hereby given that the Order revoking the following license is being rescinded by the Federal Maritime Commission pursuant to section 19 of the Shipping Act of 1984 (46 U.S.C. Chapter 409) and the regulations of the Commission pertaining to the licensing of Ocean Transportation Intermediaries, 46 CFR Part 515.

License Number: 017279NF.

Name: Unicom Trans, Inc.

Address: 15500 S. Western Ave., Gardena, CA 90249.

Order Published: FR: 03/12/08 (Volume 73, No. 49, Pg. 13236).

Sandra L. Kusumoto,
Director, Bureau of Certification and Licensing.

[FR Doc. E8-6163 Filed 3-25-08; 8:45 am]

BILLING CODE 6730-01-P